FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 962. Interested parties may submit comments on an agreement to the Secretary, Federal Maritime Commission, Washington, DC 20573, within 10 days of the date this notice appears in the Federal Register.

Agreement No.: 203-010977-038.

Title: Hispaniola Discussion Agreement.

Parties: NPR, Inc., A.P. Moller-Maersk Sea-Land, Crowley Liner Services, Inc., Marine Express, U.S.A. Tecmarine Incorporated, Kent Line Limited, Seaboard Marine Ltd., Tropical Shipping and Construction Co., Ltd.

Synopsis: The parties are revising the admission, resignation, and expulsion provisions of their agreement.

Agreement No.: 203-011584-003.

Title: NYKNOS/HUAL Rate Discussion and Voluntary Rate Adherence Agreement.

Parties: Nippon Yusen Kaisha, Wallenius Wilhelmsen Lines AS, Hoegh-Ugland Auto Liners A/S.

Synopsis: The proposed amendment would authorize the parties to enter into joint service contracts and to discuss and agree upon voluntary guidelines with respect to their individual service contracts. It would also permit them to engage in ad hoc space chartering and would clarify the authority of the parties pertaining to the discussion of tariffs and other items. In addition, it changes the name of the Agreement to the NYK/WW Lines/HUAL Cooperative Working Agreement and restates the Agreement.

Agreement No.: 232-011698.

Title: CMA CGM/Norasia Slot Exchange, Sailing and Cooperative Working Agreement.

Parties: CMA CGM S.A., Norasia Lines (Malta) Ltd.

Synopsis: The proposed agreement authorizes the parties to exchange space on their respective vessels in the trade between United States West Coast ports and ports in the Far East, Sri Lanka, and the Mediterranean Sea.

Agreement No.: 201059-003.

Title: West Gulf Intermodal Marine Terminal Operator's Conference.

Parties: Barbours Cut Intermodal Services, Fairway Terminals Corporation, Port-Cooper/T. Smith Stevedoring Co., Shippers Stevedoring Co., Inc., Southern Stevedoring Co., Inc., Strachan Shipping Company.

Synopsis: The amendment provides for the indefinite suspension of the agreement.

Dated: March 24, 2000.
By Order of the Federal Maritime Commission.
Bryant L. VanBrakle,
Secretary.

[FR Doc. 00-7777 Filed 3-29-00; 8:45 am]

BILLING CODE 6730-01-P